DEPARTMENT OF LABOR

Office of Labor-Management Standards

29 CFR Part 404

RIN 1215-AB49

Labor Organization Officer and Employee Reports

AGENCY: Office of Labor-Management Standards, Employment Standards Administration, United States Department of Labor.

ACTION: Proposed rule; extension of comment period.

SUMMARY: This document extends the period for comments on the proposed rule published on August 29, 2005. The proposed rule would revise the financial reports (Form LM-30) required to be filed by union officers and employees under the Labor-Management Reporting and Disclosure Act of 1959, as amended (LMRDA). The comment period, which was to expire on October 28, 2005, is extended ninety days to January 26, 2006.

DATES: Comments on the proposed rule published on August 29, 2005 (70 FR 51166) must be received on or before January 26, 2006.

ADDRESSES: You may submit comments, identified by RIN 1215-AB49, by any of the following methods:

E-mail: OLMS-REG-1215-AB49@dol.gov

FAX: (202) 693-1340. To assure access to the FAX equipment, only comments of five or fewer pages will be accepted via FAX transmittal, unless arrangements are made prior to faxing, by calling the number below and scheduling a time for FAX receipt by the Office of Labor-Management Standards (OLMS).

Mail: Mailed comments should be sent to Kay Oshel, Director of the Office of Policy, Reports and Disclosure Office of Labor-Management Standards, U.S. Department of Labor, 200 Constitution Avenue NW., Room N 5605, Washington, DC 20210. Because the Department continues to experience delays in U.S. mail delivery due to the ongoing concerns involving toxic contamination, you should take this into consideration when preparing to meet the deadline for submitting comments.

OLMS recommends that you confirm receipt of your comment by contacting (202) 693-0123 (this is not a toll-free number). Individuals with hearing impairments may call (800) 877-8339 (TTY/TDD).

Comments will be available for public inspection during normal business hours at the above address.

FOR FURTHER INFORMATION CONTACT: Kay H. Oshel, Director of the Office of Policy, Reports and Disclosure, at: Kay H. Oshel, U.S. Department of Labor, Employment Standards Administration, Office of Labor-Management Standards, 200 Constitution Avenue NW., Room N-5605, Washington, DC 20210, olms-public@dol.gov, (202) 693-1233 (this is not a toll-free number), (800) 877-8339 (TTY/TDD), E-mail: OLMS-REG-1215-AB49@dol.gov.

SUPPLEMENTARY INFORMATION: In the Federal Register of August 29, 2005 (70 FR 51166), the Department published a notice of proposed rulemaking that would revise the forms that officers and employees of labor organizations are required to file under the LMRDA.

Interested persons were invited to submit comments on or before October 28, 2005, 60 days after the publication of the notice. Based on separate requests by the American Federation of Labor and Congress of Industrial Organizations and the United Brotherhood of Carpenters and Joiners of America for additional time to prepare comments, the Department has decided to extend the comment period for an additional ninety days.

The proposed rule, including revisions to the Form LM-30 and its instructions, is available on the Web site maintained by OLMS at http://www.olms.dol.gov. (Anyone who is unable to access this information on the Internet can obtain the information by contacting the Employment Standards Administration at 200 Constitution Avenue, NW., Room N-5605, Washington, DC 20210, at olms-mail@dol-esa.gov, or at (202) 693-0122 (this is not a toll-free number). Individuals with hearing impairments may call 1-800-877-8339 (TTY/TDD).

Signed at Washington, DC, this 19 day of October, 2005.
Victoria A. Lipnic,
Assistant Secretary for Employment Standards.
Don Todd,
Deputy Assistant Secretary for Labor-Management Programs.

[FR Doc. 05-21274 Filed 10-21-05; 8:45 am]

BILLING CODE 4510-CP-P